DEPARTMENT OF ENERGY

Federal Energy Regulatory Commission

[Project No. 13314-000]

Corral Creek South Hydro, LLC; Notice of Preliminary Permit Application Accepted for Filing and Soliciting Comments, Motions To Intervene and Competing Applications

February 4, 2009.

On November 5, 2008, Corral Creek South Hydro, LLC filed an application, pursuant to section 4(f) of the Federal Power Act (FPA), proposing to study the feasibility of the Corral Creek South Pumped Storage Project to be located in Twin Falls County, Idaho on federal land administered by the Bureau of Land Management. The proposed project would be closed loop and would not be built on an existing body of water.

The proposed project would consist of: (1) An upper earthen dam with a height of 180 feet and a length of 8,400 feet; (2) an upper reservoir with a surface area of 118 acres, a capacity of 9,120 acre-feet, and a maximum pool elevation of 6,620 feet msl; (3) a lower earthen dam with a height of 200 feet and a length of 4,140 feet; (4) a lower reservoir with a surface area of 113 acres, a capacity of 10,880 acre-feet, and a maximum pool elevation of 5,500 feet msl; (5) a 30 foot diameter, 4,710 foot long penstock; (6) a powerhouse containing 10 pump/turbine units with a total installed capacity of 1,100 MW; (7) a 10.6 mile long, 500 kV transmission line and; (8) appurtenant facilities. The proposed project would have an annual production of 3,212 GWh which would be sold to a local utility.

Applicant Contact: Brent L. Smith, P.O. Box 535, Rigby, Idaho, 83442 (208) 745-0834

FERC Contact: Steven Sachs (202) 502-8666

Deadline for filing comments, motions to intervene, competing applications (without notices of intent), or notices of intent to file competing applications: 60 days from the issuance of this notice.

Comments, motions to intervene, notices of intent and competing applications may be filed electronically via the internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426.

For more information on how to submit these types of filings please go to the Commission's Web site located at http://www.ferc.gov/filing-comments.asp. More information about this project can be viewed or printed on the “eLibrary” link of the Commission's Web site at http://www.ferc.gov/docs-filing/elibrary.asp. Enter the docket number (P-13314) in the docket number field to access the document. For assistance, call toll-free 1-866-208-3372.

Kimberly D. Bose,
Secretary.

[FR Doc. E9-2869 Filed 2-10-09; 8:45 am]

BILLING CODE 6717-01-P